DEPARTMENT OF THE INTERIOR

Fish and Wildlife Service

[FWS-R5-R-2016-N217; BAC-4333-99]

Massasoit National Wildlife Refuge, Plymouth, MA; Draft Comprehensive Conservation Plan and Environmental Assessment

AGENCY: Fish and Wildlife Service, Interior.

ACTION: Notice of availability; request for comments.

SUMMARY: We, the U.S. Fish and Wildlife Service (Service), announce the availability of a draft comprehensive conservation plan (CCP) and environmental assessment (EA) for Massasoit National Wildlife Refuge (NWR) for public review and comment. Massasoit NWR is located in Plymouth, Massachusetts, and is administered by staff at Eastern Massachusetts NWR Complex based in Sudbury, Massachusetts. The draft CCP and EA describes two alternatives for managing Massasoit NWR for the next 15 years. Alternative B is identified as the Service-preferred alternative. Also available for public review and comment are the draft compatibility determinations, which are included as appendix B in the draft CCP and EA.

DATES: To ensure consideration of your written comments, please send them by May 16, 2017. We will also hold a public meeting. We will announce the meeting and other opportunities for public input in local news media, via our project mailing list, and on the refuge planning Web site: http://www.fws.gov/refuge/Massasoit/what_we_do/conservation.html.

ADDRESSES: You may submit comments, request copies of the document, or obtain more information on the plan by any of the following methods.

Email: northeastplanning@fws.gov. Please include “Massasoit CCP” in the subject line of the message.

U.S. Mail: Elizabeth Herland, Project Leader, Eastern Massachusetts NWR Complex, 73 Weir Hill Road, Sudbury, MA 01776.

Fax: Attention: Elizabeth Herland, 978-443-2898.

In-Person Drop-off, Viewing, or Pickup: Call Elizabeth Herland, Project Leader, Eastern Massachusetts NWR Complex, at 978-579-4026, during regular business hours to make an appointment to view the document.

FOR FURTHER INFORMATION CONTACT: Elizabeth Herland, Project Leader, Eastern Massachusetts NWR; mailing address: 73 Weir Hill Road, Sudbury, MA 01776; 978-579-4026 (phone); 978-443-2898 (fax); northeastplanning@fws.gov (email) (please put “Massasoit NWR” in the subject line).

SUPPLEMENTARY INFORMATION:

Introduction

With this notice, we continue the CCP process for Massasoit NWR. We published our original notice of intent to prepare a CCP in the Federal Register on January 10, 2012 (77 FR 1503).

The 209-acre Massasoit NWR is located in Plymouth, Massachusetts, and is comprised of three parcels: Crooked Pond (184 acres), Island Pond (15 acres), and Hoyts Pond (10 acres). The refuge was established in 1983 primarily to conserve the federally endangered northern red-bellied cooter (cooter). In addition, the refuge protects other wildlife and plant species, including rare moths and other native pollinators, migratory songbirds, and small mammals. Habitats on the refuge include pine-oak upland forest with varying understory types, and coastal plain ponds and associated shoreline and upland habitats.

The refuge is currently closed to all public uses. It has not been open to the public since its establishment due to both staffing limitations and the presence of the cooter that is sensitive to disturbance. Exceptions have been made for occasional interpretive and environmental education programs under a special use permit (SUP), or via special staff-led programs.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management conservation, legal mandates, and our policies. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

Public Outreach

In April 2012, we distributed a planning newsletter to inform stakeholders about the planning process and asked recipients to contact us about issues or concerns they would like us to address. We also posted the newsletter on our Web site and published news releases in local newspapers. We held stakeholder and public scoping meetings in early April 2012, in Plymouth, Massachusetts. These meetings helped refine the partner and public concerns to be address in the planning process. Throughout the planning process, refuge staff have conducted additional outreach via participation in community meetings and events, other public forums, and meetings with the Massachusetts Division of Fisheries and Wildlife. We have considered and evaluated all of the comments we received and address them in various ways in the two alternatives presented in the draft CCP and EA.

CCP Alternatives We Are Considering

We developed and evaluated two management alternatives in the draft CCP and EA. A full description of each alternative is in the draft plan. Both alternatives include measures to continue conducting biological and ecological research and investigations on cooters, as well as continue active habitat management to benefit the cooters and other species of concern.

There are other actions that differ among the alternatives. Below, we provide summaries of the two alternatives, highlighting the differences.

Alternative A (Current Management)

Alternative A is the “no action” alternative required by the National Environmental Policy Act. Alternative A defines our current management activities, including those planned, funded, or underway, and serves as the baseline against which to compare alternative B. Under alternative A, we would continue to contribute to rangewide cooter population recovery goals by protecting existing pond and shoreline habitat on the refuge from human disturbance, creating and maintaining high quality nesting habitat, and increasing nest success and hatchling survival. Our work with the cooter recovery team and species experts would continue to refine our understanding of species habitat requirements and the factors limiting survival and reproduction. We would continue to manage mixed pine-oak forest and other upland habitats to reduce hazardous fuel loading through mechanical clearing and prescribed fire. We would also continue to allow limited environmental education and interpretation programs under a SUP, or led by refuge staff.

Alternative B (Increased Ecosystem Monitoring, Partnerships, and Public Use; Service-Preferred Alternative)

Alternative B is the Service-preferred alternative. It combines the actions we believe would best achieve the refuge's purposes, vision, and goals and respond to public issues. Alternative B represents an extension and progression of all areas of current refuge management, including additional biological work, increased visitor services opportunities, and enhanced outreach to local communities. Alternative B places a greater emphasis on the importance of the refuge in a larger landscape context. This alternative would expand habitat management and monitoring for cooter and other species on additional refuge-owned parcels, and would include the use of prescribed burning to increase the structure and species composition of upland habitats to benefit wildlife resources of concern.

Alternative B would pursue the Service's administrative requirements to evaluate potential hunting opportunities on the Crooked Pond parcel. Wildlife observation, photography, interpretation, and environmental education would be allowed on special occasions when led by refuge staff or partners working under a SUP. These activities would allow visitors to gain a better understanding of the unique natural resources the refuge protects and encourage visitors to become better stewards and advocates for resource conservation.

Under alternative B, refuge staff would increase outreach to the local community to raise the refuge's visibility and promote the relevancy of the refuge and the Eastern Massachusetts NWR Complex to conservation in southeast Massachusetts.

Next Steps

After this comment period ends, we will analyze the comments and address them in the form of a final CCP and, if appropriate, finding of no significant impact.

Public Availability of Documents

In addition to any methods listed in ADDRESSES, you can view or obtain documents from the agency Web site at: http://www.fws.gov/refuge/Massasoit/what_we_do/conservation.html.

Submitting Comments

We consider comments substantive if they:

• Question, with reasonable basis, the accuracy of the information in the document.

• Question, with reasonable basis, the adequacy of the EA.

• Present reasonable alternatives other than those presented in the EA.

• Provide new or additional information relevant to the EA.

Public Availability of Comments

Before including your address, phone number, email address, or other personal identifying information in your comments, you should be aware that your entire comment—including your personal identifying information—may be made publicly available at any time. While you can ask us in your comment to withhold your personal identifying information from public review, we cannot guarantee that we will be able to do so.

Dated: March 13, 2017.
Wendi Weber,
Regional Director, Northeast Region.

[FR Doc. 2017-05369 Filed 3-16-17; 8:45 am]

BILLING CODE 4333-15-P